DEPARTMENT OF ENERGY

Energy Employees Occupational Illness Compensation Program Act of 2000; Revision to List of Covered Facilities

AGENCY: Department of Energy.

ACTION: Notice of revision of listing of covered facilities.

SUMMARY: Periodically, the Department of Energy (“Department” or “DOE”) publishes a list of facilities covered under the Energy Employees Occupational Illness Compensation Program Act of 2000 (“Act”), Title 36 of Public Law 106-398 (66 FR 4003; 66 FR 31218). The Act establishes a program to provide compensation to individuals who developed illnesses as a result of their employment in nuclear weapons production-related activities and at certain federally owned facilities in which radioactive materials were used. This notice revises the previous lists and provides additional information about the covered facilities, atomic weapons employers, and beryllium vendors. The original notice provides detailed background information about this matter. Previous lists were published on July 21, 2003, December 27, 2002, June 11, 2001, and January 17, 2001.

FOR FURTHER INFORMATION CONTACT: Office of Worker Advocacy, 1-877-447-9756.

ADDRESSES: The Department welcomes comments on this list. Individuals who wish to suggest changes should provide information to: Office of Worker Advocacy (EH-8), U.S. Department of Energy, 1000 Independence Avenue, SW., Washington, DC 20585; e-mail: worker_advocacy@eh.doe.gov; toll free: 1-877-447-9756; URL: http://www.eh.doe.gov/advocacy/.

SUPPLEMENTARY INFORMATION:

Purpose

The Energy Employees Occupational Illness Compensation Program Act of 2000 (“Act”), Title 36 of Public Law 106-398, establishes a program to provide compensation to individuals who developed illnesses as a result of their employment in nuclear weapons production-related activities and at certain federally owned facilities in which radioactive materials were used. On December 7, 2000, the President issued Executive Order 13179 (“Order”) directing the Department of Energy (“Department” or “DOE”) to list covered facilities in the Federal Register. This notice revises the previous lists and provides additional information about the covered facilities, atomic weapons employers, and beryllium vendors.

Section 2.c.iv of the Order instructs the Department to designate, pursuant to sections 3621(4)(B) and 3622 of the Act, atomic weapons employers (AWE's). In addition, Section 2.c.vii of the Order instructs the Department to list three types of facilities defined in the Act:

(1) Atomic weapons employer facilities, as defined in section 3621(4);

(2) Department of Energy facilities, as defined by section 3621(12); and

(3) Beryllium vendors, as defined by section 3621(6).

Compensation options and mechanisms are defined differently for each of these facility categories. The atomic weapons employer category includes atomic weapons employer facilities in which the primary work was not related to atomic weapons, and consequently these facilities are not commonly known as atomic weapons facilities. Their inclusion in this list is consistent with the Act, and is not intended as a classification for any other purpose.

The list at the end of this notice represents the Department's best efforts to date to compile a list of facilities under these three categories. This listing includes 363 facilities in 46 jurisdictions. Today's publication of the list newly designates General Electric's X-ray Division in Milwaukee, WI as an AWE, and additionally designates the Nevada Site Office as a DOE facility. It also alters slightly the designation for Blockson Chemical (broadens it by saying “building 55 and related activities” which is meant to include the AEC-funded laboratory, pilot plant and oxidation process). Other corrections include: B&T Metals (OH) (the DOE designation was in error and has been removed), Foote Mineral (PA) (the BE designation has been on the program's Web site (noted below) since inception, but was inadvertently missing from the Federal Register notice), Swenson Evaporator (is located in Harvey, not Chicago, IL) and C.H. Schnorr, PA (previously Schnoor). This notice also deletes the listing for Ledoux (NY) entirely because it was learned that no radioactivity was used at that location.

In addition to continuing its research efforts, the Department has developed information dissemination mechanisms to make facility-specific data available to the public. Information about each listed facility, including the dates and type of work done there, is available by contacting the Office of Worker Advocacy. These descriptions are available in print form and also electronically (via the World Wide Web at http://tis.eh.doe.gov/advocacy/).

The list that follows covers facilities under the three categories of employers defined by the Act: atomic weapons employers (“AWE”), Department of Energy facilities (“DOE”), and beryllium vendors (“BE”). Each of the categories has been defined in the original notice and include:

1. Atomic Weapons Employers and Atomic Weapons Employer Facilities

The lines between research, atomic weapons production, and non-weapons production are often difficult to draw. For the purposes of this notice, and as directed by the Act, only those facilities whose work involved radioactive material that was connected to the atomic weapons production chain are included. This includes facilities that received radioactive material that had been used in the production of an atomic weapon, or the “back end” of the production cycle, such as waste handling or reprocessing operations. For the purposes of this listing, the Department considers commercial nuclear fuel fabrication facilities to be covered facilities for those periods when they either supplied radioactive materials to the Department or received radioactive materials that had been used in the Department's production reactors.

Corporate information regarding many of the listed facilities is often not readily available. The Department welcomes comments or additional information regarding facilities that may have supported atomic weapons production that are not on this list, as well as information that clarifies the work done at facilities named below.

2. Department of Energy Facilities

The listing of Department of Energy facilities is only intended for the context of implementing this Act and does not create or imply any new Departmental obligations or ownership at any of the facilities named on this list.

3. Beryllium Vendors and Beryllium Vendor Facilities

Section 3621(6) of the Act defines beryllium vendor as the following:

“(A) Atomics International.

(B) Brush Wellman, Incorporated, and its predecessor, Brush Beryllium Company.

(C) General Atomics.

(D) General Electric Company.

(E) NGK Metals Corporation and its predecessors, Kawecki-Berylco, Cabot Corporation, BerylCo, and Beryllium Corporation of America.

(F) Nuclear Materials and Equipment Corporation.

(G) StarMet Corporation, and its predecessor, Nuclear Metals, Incorporated.

(H) Wyman Gordan, Incorporated.

(I) Any other vendor, processor, or producer of beryllium or related products designated as a beryllium vendor for purposes of this title under Section 3622.”

The list identifies facilities that processed, produced, or provided beryllium metal for the Department, as defined by the Act.

Jurisdiction and facility name | Location | Facility type | State
AL—Southern Research Institute | Birmingham | AWE | Alabama.
AL—Speedring, Inc. | Culman | BE | Alabama.
AL—Tennessee Valley Authority | Muscle Shoals | AWE | Alabama.
AK—Amchitka Nuclear Explosion Site | Amchitka Island | DOE | Alaska.
AK—Project Chariot Site | Cape Thompson | DOE | Alaska.
AZ—Ore Buying Station at Globe | Globe | DOE | Arizona.
CA—Arthur D. Little Co | San Francisco | AWE | California.
CA—Atomics International | Los Angeles County | BE DOE | California.
CA—California Research Corp | Richmond | AWE | California.
CA—Ceradyne, Inc | Costa Mesa | BE | California.
CA—Ceradyne, Inc | Santa Ana | BE | California.
CA—City Tool & Die MFG | Santa Clara | BE | California.
CA—C.L. Hann Industries | San Jose | BE | California.
CA—Dow Chemical Co | Walnut Creek | AWE | California.
CA—EDM Exotics | Hayward | BE | California.
CA—Electro Circuits, Inc | Pasadena | AWE | California.
CA—Electrofusion | Fremont | BE | California.
CA—Energy Technology Engineering Center (ETEC) | Santa Susana, Area IV | DOE | California.
CA—General Atomics | La Jolla | AWE BE DOE | California.
CA—General Electric Vallecitos | Pleasanton | AWE DOE | California.
CA—Hafer Tool | Oakland | BE | California.
CA—Hexcel Products | Berkeley | BE | California.
CA—Hunter Douglas Aluminum Corp | Riverside | AWE | California.
CA—Jerry Carroll Machining | San Carlos | BE | California.
CA—Lab. for Energy-Related Health Research | Davis | DOE | California.
CA—Lab. of Biomedical & Environmental Sciences | Los Angeles | DOE | California.
CA—Lab. of Radiobiology and Environmental Health | San Francisco | DOE | California.
CA—Lawrence Berkeley National Laboratory | Berkeley | DOE | California.
CA—Lawrence Livermore National Laboratory | Livermore | DOE | California.
CA—Lebow | Goleta | BE | California.
CA—Philco-Ford | Newport Beach | BE | California
CA—Pleasanton Tool & Manufacturing | Pleasanton | BE | California.
CA—Poltech Precision | Fremont | BE | California.
CA—Robin Materials | Mountain View | BE | California.
CA—Ron Witherspoon, Inc | Campbell | BE | California.
CA—Sandia Laboratory, Salton Sea Base | Imperial County | DOE | California.
CA—Sandia National Laboratories—Livermore | Livermore | DOE | California.
CA—Stanford Linear Accelerator | Palo Alto | DOE | California.
CA—Stauffer Metals, Inc | Richmond | AWE | California.
CA—Tapemation | Scotts Valley | BE | California.
CA—University of California | Berkeley | AWE DOE | California.
CO—Coors Porcelain | Golden | BE | Colorado.
CO—Grand Junction Operations Office | Grand Junction | DOE | Colorado.
CO—Green Sludge Plant | Uraven | DOE | Colorado.
CO—Project Rio Blanco Nuclear Explosion Site | Rifle | DOE | Colorado.
CO—Project Rulison Nuclear Explosion Site | Grand Valley | DOE | Colorado.
CO—Rocky Flats Plant | Golden | DOE | Colorado.
CO—Shattuck Chemical | Denver | AWE | Colorado.
CO—University of Denver Research Institute | Denver | AWE BE | Colorado.
CO—Uranium Mill in Durango | Durango | DOE | Colorado.
CT—American Chain and Cable Co | Bridgeport | AWE | Connecticut.
CT—Anaconda Co | Waterbury | AWE | Connecticut.
CT—Bridgeport Brass Co., Havens Laboratory | Bridgeport | AWE | Connecticut.
CT—Combustion Engineering | Windsor | AWE | Connecticut.
CT—Connecticut Aircraft Nuclear Engine Laboratory | Middletown | BE DOE | Connecticut.
CT—Dorr Corp. | Stamford | AWE | Connecticut.
CT—Fenn Machinery | Hartford | AWE | Connecticut.
CT—Machlett Laboratories | Springdale | BE | Connecticut.
CT—New England Lime Co | Canaan | AWE | Connecticut.
CT—Seymour Specialty Wire | Seymour | AWE DOE | Connecticut.
CT—Sperry Products, Inc | Danbury | AWE | Connecticut.
CT—Torrington Co | Torrington | AWE | Connecticut.
DE—Allied Chemical and Dye Corp | North Claymont | AWE | Delaware.
DC—National Bureau of Standards | Washington | AWE | District of Columbia.
DC—Naval Research Laboratory | Washington | AWE DOE | District of Columbia.
FL—American Beryllium Co | Sarasota | BE | Florida.
FL—Armour Fertilizer Works | Bartow | AWE | Florida.
FL—Gardinier, Inc | Tampa | AWE | Florida.
FL—International Minerals and Chemical Corp. | Mulberry | AWE | Florida.
FL—Pinellas Plant | Clearwater | DOE | Florida.
FL—University of Florida | Gainesville | AWE | Florida.
FL—Virginia-Carolina Chemical Corp | Nichols | AWE | Florida.
FL—W.R. Grace Co., Agricultural Chemical Div | Ridgewood | AWE | Florida.
HI—Kauai Test Facility | Kauai | DOE | Hawaii.
ID—Argonne National Laboratory—West | Scoville | DOE | Idaho.
ID—Idaho National Engineering Laboratory | Scoville | DOE | Idaho.
ID—Northwest Machining & Manufacturing | Meridian | BE | Idaho.
IL—Allied Chemical Corp. Plant | Metropolis | AWE | Illinois.
IL—American Machine and Metals, Inc | E. Moline | AWE | Illinois.
IL—Argonne National Laboratory—East | Argonne | DOE | Illinois.
IL—Armour Research Foundation | Chicago | AWE | Illinois.
IL—Blockson Chemical Co. (Building 55 and related activities) | Joliet | AWE | Illinois.
IL—C-B Tool Products Co | Chicago | AWE | Illinois.
IL—Crane Co | Chicago | AWE | Illinois.
IL—Dow Chemical (Madison Site) | Madison | AWE | Illinois.
IL—ERA Tool and Engineering Co | Chicago | AWE | Illinois.
IL—Fansteel Metallurgical Corp | North Chicago | BE | Illinois.
IL—Fermi National Accelerator Laboratory | Batavia | DOE | Illinois.
IL—Granite City Steel | Granite City | AWE DOE | Illinois.
IL—Great Lakes Carbon Corp | Chicago | AWE | Illinois.
IL—GSA 39th Street Warehouse | Chicago | AWE | Illinois.
IL—International Register | Chicago | AWE | Illinois.
IL—Kaiser Aluminum Corp | Dalton | AWE | Illinois.
IL—Lindsay Light and Chemical Co | W. Chicago | AWE | Illinois.
IL—Metallurgical Laboratory | Chicago | AWE BE DOE | Illinois.
IL—Midwest Manufacturing Co | Galesburg | AWE | Illinois.
IL—Museum of Science and Industry | Chicago | AWE | Illinois.
IL—National Guard Armory | Chicago | AWE DOE | Illinois.
IL—Podbeliniac Corp | Chicago | AWE | Illinois.
IL—Precision Extrusion Co | Bensenville | AWE | Illinois.
IL—Quality Hardware and Machine Co | Chicago | AWE | Illinois.
IL—R. Krasburg and Sons Manufacturing Co | Chicago | AWE | Illinois.
IL—Sciaky Brothers, Inc | Chicago | AWE | Illinois.
IL—Swenson Evaporator Co | Harvey | AWE | Illinois.
IL—W.E. Pratt Manufacturing Co | Joliet | AWE | Illinois.
IL—Wyckoff Drawn Steel Co | Chicago | AWE | Illinois.
IN—American Bearing Corp | Indianapolis | AWE | Indiana.
IN—Dana Heavy Water Plant | Dana | DOE | Indiana.
IN—General Electric Plant | Shelbyville | AWE | Indiana.
IN—Joslyn Manufacturing and Supply Co | Ft. Wayne | AWE | Indiana.
IN—Purdue University | Lafayette | AWE | Indiana.
IA—Ames Laboratory | Ames | DOE | Iowa.
IA—Bendix Aviation (Pioneer Division) | Davenport | AWE | Iowa.
IA—Iowa Ordnance Plant | Burlington | DOE | Iowa.
IA—Titus Metals | Waterloo | AWE | Iowa.
KS—Spencer Chemical Co., Jayhawk Works | Pittsburgh | AWE | Kansas.
KY—Paducah Gaseous Diffusion Plant | Paducah | DOE | Kentucky.
LA—Ethyl Corp | Baton Rouge | BE | Louisiana.
MD—Armco-Rustless Iron & Steel | Baltimore | AWE | Maryland.
MD—W.R. Grace and Company | Curtis Bay | AWE | Maryland.
MA—American Potash & Chemical | West Hanover | AWE | Massachusetts.
MA—C.G. Sargent & Sons | Graniteville | AWE | Massachusetts.
MA—Chapman Valve | Indian Orchard | AWE DOE | Massachusetts.
MA—Edgerton Germeshausen & Grier, Inc | Boston | AWE | Massachusetts.
MA—Fenwal, Inc | Ashland | AWE | Massachusetts.
MA—Franklin Institute | Boston | BE | Massachusetts.
MA—Heald Machine Co | Worcester | AWE | Massachusetts.
MA—La Pointe Machine and Tool Co | Hudson | AWE | Massachusetts.
MA—Massachusetts Institute of Technology | Cambridge | AWE BE | Massachusetts.
MA—Metals and Controls Corp | Attleboro | AWE | Massachusetts.
MA—National Research Corp | Cambridge | AWE | Massachusetts.
MA—Norton Co | Worcester | AWE BE | Massachusetts.
MA—Nuclear Metals, Inc | Concord | AWE BE | Massachusetts.
MA—Reed Rolled Thread Co | Worcester | AWE | Massachusetts.
MA—Shpack Landfill | Norton | AWE | Massachusetts.
MA—Ventron Corporation | Beverly | AWE DOE | Massachusetts.
MA—Watertown Arsenal | Watertown | AWE | Massachusetts.
MA—Winchester Engineering & Analytical Center | Winchester | DOE | Massachusetts.
MA—Woburn Landfill | Woburn | AWE | Massachusetts.
MA—Wyman Gordon Inc | Grayton, North Grafton | BE | Massachusetts.
MI—AC Spark Plug | Flint | AWE BE | Michigan.
MI—Baker-Perkins Co | Saginaw | AWE | Michigan.
MI—Bridgeport Brass Co | Adrian | AWE DOE | Michigan.
MI—Brush Beryllium Co | Detroit | AWE | Michigan.
MI—Carboloy Co | Detroit | AWE | Michigan.
MI—Extruded Metals Co | Grand Rapids | AWE | Michigan.
MI—Gerity-Michigan Corp | Adrian | BE | Michigan.
MI—Mitts & Merrel Co | Saginaw | AWE | Michigan.
MI—Oliver Corp | Battle Creek | AWE | Michigan.
MI—Revere Copper and Brass | Detroit | AWE BE | Michigan.
MI—Speedring Systems, Inc | Detroit | BE | Michigan.
MI—Star Cutter Corp | Farmington | AWE | Michigan.
MI—University of Michigan | Ann Arbor | AWE | Michigan.
MI—Wolverine Tube Division | Detroit | AWE BE | Michigan.
MN—Elk River Reactor | Elk River | DOE | Minnesota.
MS—Salmon Nuclear Explosion Site | Hattiesburg | DOE | Mississippi.
MO—Kansas City Plant | Kansas City | DOE | Missouri.
MO—Latty Avenue Properties | Hazelwood | AWE DOE | Missouri.
MO—Mallinckrodt Chemical Co., Destrehan St. Plant | St. Louis | DOE | Missouri.
MO—Medart Co | St. Louis | AWE | Missouri.
MO—Roger Iron Co | Joplin | AWE | Missouri.
MO—St. Louis Airport Storage Site (SLAPS) | St. Louis | AWE | Missouri.
MO—Tyson Valley Powder Farm | St. Louis | AWE | Missouri.
MO—United Nuclear Corp | Hematite | AWE | Missouri.
MO—Weldon Spring Plant | Weldon Spring | DOE | Missouri.
NE—Hallam Sodium Graphite Reactor | Hallam | DOE | Nebraska.
NV—Nevada Site Office | North Las Vegas | DOE | Nevada.
NV—Nevada Test Site | Mercury | DOE | Nevada.
NV—Project Faultless Nuclear Explosion Site | Central Nevada Test Site | DOE | Nevada.
NV—Project Shoal Nuclear Explosion Site | Fallon | DOE | Nevada.
NV—Tonopah Test Range | Tonopah | DOE | Nevada.
NV—Yucca Mountain Site Characterization Project | Yucca Mountain | DOE | Nevada.
NJ—Aluminum Co. of America (Alcoa) | Garwood | AWE | New Jersey.
NJ—American Peddinghaus Corp | Moonachie | AWE | New Jersey.
NJ—Baker and Williams Co | Newark | AWE | New Jersey.
NJ—Bell Telephone Laboratories | Murray Hill | AWE | New Jersey.
NJ—Bloomfield Tool Co | Bloomfield | AWE | New Jersey.
NJ—Bowen Laboratory | North Branch | AWE | New Jersey.
NJ—Callite Tungsten Co | Union City | AWE | New Jersey.
NJ—Chemical Construction Co | Linden | AWE | New Jersey.
NJ—Du Pont Deepwater Works | Deepwater | AWE DOE | New Jersey.
NJ—International Nickel Co., Bayonne Laboratories | Bayonne | AWE | New Jersey.
NJ—J.T. Baker Chemical Co | Philipsburg | AWE | New Jersey.
NJ—Kellex/Pierpont | Jersey City | AWE DOE | New Jersey.
NJ—Maywood Chemical Works | Maywood | AWE | New Jersey.
NJ—Middlesex Municipal Landfill | Middlesex | AWE DOE | New Jersey.
NJ—Middlesex Sampling Plant | Middlesex | DOE | New Jersey.
NJ—National Beryllia | Haskell | BE | New Jersey.
NJ—New Brunswick Laboratory | New Brunswick | DOE | New Jersey.
NJ—Picatinny Arsenal | Dover | AWE | New Jersey.
NJ—Princeton Plasma Physics Laboratory | Princeton | DOE | New Jersey.
NJ—Rare Earths/W.R. Grace | Wayne | AWE DOE | New Jersey.
NJ—Standard Oil Development Co. of NJ | Linden | AWE | New Jersey.
NJ—Stevens Institute of Technology | Hoboken | BE | New Jersey.
NJ—Tube Reducing Co | Wallington | AWE | New Jersey.
NJ—U.S. Pipe and Foundry | Burlington | BE | New Jersey.
NJ—United Lead Co | Middlesex | AWE BE | New Jersey.
NJ—Vitro Corp. of America (New Jersey) | West Orange | AWE | New Jersey.
NJ—Westinghouse Electric Corp (New Jersey) | Bloomfield | AWE | New Jersey.
NJ—Wykoff Steel Co | Newark | AWE | New Jersey.
NM—Accurate Machine & Tool | Albuquerque | BE | New Mexico.
NM—Albuquerque Operations Office | Albuquerque | DOE | New Mexico.
NM—Chupadera Mesa | Chupadera Mesa | DOE | New Mexico.
NM—Los Alamos Medical Center | Los Alamos | DOE | New Mexico.
NM—Los Alamos National Laboratory | Los Alamos | DOE | New Mexico.
NM—Lovelace Respiratory Research Institute | Albuquerque | DOE | New Mexico.
NM—Ore Buying Station at Grants | Grants | DOE | New Mexico.
NM—Ore Buying Station at Shiprock | Shiprock | DOE | New Mexico.
NM—Project Gasbuggy Nuclear Explosion Site | Farmington | DOE | New Mexico.
NM—Project Gnome Nuclear Explosion Site | Carlsbad | DOE | New Mexico.
NM—Sandia National Laboratories | Albuquerque | DOE | New Mexico.
NM—South Albuquerque Works | Albuquerque | DOE | New Mexico.
NM—Trinity Nuclear Explosion Site | White Sands Missile Range | DOE | New Mexico.
NM—Waste Isolation Pilot Plant | Carlsbad | DOE | New Mexico.
NY—Allegheny-Ludlum Steel | Watervliet | AWE | New York.
NY—American Machine and Foundry | Brooklyn | AWE | New York.
NY—Ashland Oil | Tonawanda | AWE | New York.
NY—Baker and Williams Warehouses | New York | AWE DOE | New York.
NY—Bethlehem Steel | Lackawanna | AWE | New York.
NY—Bliss & Laughlin Steel | Buffalo | AWE | New York.
NY—Brookhaven National Laboratory | Upton | DOE | New York.
NY—Burns & Roe, Inc | Maspeth | BE | New York.
NY—Carborundum Company | Niagara Falls | AWE | New York.
NY—Colonie Site (National Lead) | Colonie (Albany) | AWE DOE | New York.
NY—Crucible Steel Co | Syracuse | AWE | New York.
NY—Electro Metallurgical | Niagara Falls | DOE | New York.
NY—Environmental Measurements Laboratory | New York | DOE | New York.
NY—Fairchild Hiller Corporation | Farmingdale | BE | New York.
NY—General Astrometals | Yonkers | BE | New York.
NY—Hooker Electrochemical | Niagara Falls | AWE | New York.
NY—International Rare Metals Refinery, Inc | Mt. Kisco | AWE | New York.
NY—Ithaca Gun Co | Ithaca | AWE | New York.
NY—Lake Ontario Ordnance Works | Niagara Falls | DOE | New York.
NY—Linde Air Products | Buffalo | AWE | New York.
NY—Linde Ceramics Plant | Tonawanda | AWE DOE | New York.
NY—New York University | New York | AWE | New York.
NY—Peek Street Facility¹ | Schenectady | DOE | New York.
NY—Radium Chemical Co | New York | AWE BE | New York
NY—Rensselaer Polytechnic Institute | Troy | BE | New York.
NY—Sacandaga Facility¹ | Glenville | DOE | New York.
NY—SAM Laboratories, Columbia University | New York | DOE | New York.
NY—Seaway Industrial Park | Tonawanda | AWE | New York.
NY—Seneca Army Depot | Romulus | AWE | New York.
NY—Separations Process Research Unit (at Knolls Lab.) ¹ | Schenectady | DOE | New York.
NY—Simonds Saw and Steel Co | Lockport | AWE | New York.
NY—Staten Island Warehouse | New York | AWE | New York.
NY—Sylvania Corning Nuclear Corp.—Bayside Lab | Bayside | AWE BE | New York.
NY—Sylvania Corning Nuclear Corp.—Hicksville Plant | Hicksville | AWE | New York.
NY—Titanium Alloys Manufacturing | Niagara Falls | AWE | New York.
NY—Trudeau Foundation | Saranac Lake | BE | New York.
NY—University of Rochester Atomic Energy Project | Rochester | DOE | New York.
NY—Utica St. Warehouse | Buffalo | AWE | New York.
NY—West Valley Demonstration Project | West Valley | AWE DOE | New York.
NY—Wolff-Alport Chemical Corp | Brooklyn | AWE | New York.
NC—Beryllium Metals and Chemical Corp | Bessemer City | BE | North Carolina.
NC—University of North Carolina | Chapel Hill | BE | North Carolina.
OH—Ajax Magnethermic Corp | Youngstown | AWE | Ohio.
OH—Alba Craft | Oxford | AWE DOE | Ohio.
OH—Associated Aircraft Tool and Manufacturing Co | Fairfield | AWE DOE | Ohio.
OH—B & T Metals | Columbus | AWE | Ohio.
OH—Baker Brothers | Toledo | AWE DOE | Ohio.
OH—Battelle Laboratories—King Avenue | Columbus | AWE BE DOE | Ohio.
OH—Battelle Laboratories—West Jefferson | Columbus | AWE DOE | Ohio.
OH—Beryllium Production Plant (Brush Luckey Plant) | Luckey | BE DOE | Ohio.
OH—Brush Beryllium Co. (Cleveland) | Cleveland | AWE BE | Ohio.
OH—Brush Beryllium Co. (Elmore) | Elmore | BE | Ohio.
OH—Brush Beryllium Co. (Lorain) | Lorain | BE | Ohio.
OH—Cincinnati Milling Machine Co | Cincinnati | AWE | Ohio.
OH—Clifton Products Co | Painesville | BE | Ohio.
OH—Copperweld Steel | Warren | AWE | Ohio.
OH—Du Pont-Grasselli Research Laboratory | Cleveland | AWE | Ohio.
OH—Extrusion Plant (Reactive Metals Inc.) | Ashtabula | DOE | Ohio.
OH—Feed Materials Production Center (FMPC) | Fernald | DOE | Ohio.
OH—General Electric Company (Ohio) | Cincinnati/Evendale | AWE BE DOE | Ohio.
OH—Gruen Watch | Norwood | AWE | Ohio.
OH—Harshaw Chemical Co | Cleveland | AWE | Ohio.
OH—Herring-Hall Marvin Safe Co. | Hamilton | AWE DOE | Ohio.
OH—Horizons, Inc | Cleveland | AWE | Ohio.
OH—Kettering Laboratory, University of Cincinnati | Cincinnati | BE | Ohio.
OH—Magnus Brass Co | Cincinnati | AWE | Ohio.
OH—McKinney Tool and Manufacturing Co | Cleveland | AWE | Ohio.
OH—Mitchell Steel Co | Cincinnati | AWE | Ohio.
OH—Monsanto Chemical Co | Dayton | AWE | Ohio.
OH—Mound Plant | Miamisburg | DOE | Ohio.
OH—Painesville Site (Diamond Magnesium Co.) | Painesville | AWE | Ohio.
OH—Piqua Organic Moderated Reactor | Piqua | DOE | Ohio.
OH—Portsmouth Gaseous Diffusion Plant | Piketon | DOE | Ohio.
OH—R. W. Leblond Machine Tool Co | Cincinnati | AWE | Ohio.
OH—Tech-Art, Inc | Milford | AWE | Ohio.
OH—Tocco Induction Heating Div | Cleveland | AWE | Ohio.
OH—Vulcan Tool Co | Dayton | AWE | Ohio.
OK—Eagle Picher | Quapaw | BE | Oklahoma.
OK—Kerr-McGee | Guthrie | AWE | Oklahoma.
OR—Albany Research Center | Albany | AWE DOE | Oregon.
OR—Wah Chang | Albany | AWE | Oregon.
PA—Aeroprojects, Inc | West Chester | AWE BE | Pennsylvania.
PA—Aliquippa Forge | Aliquippa | AWE DOE | Pennsylvania.
PA—Aluminum Co. of America (Alcoa) (Pennsylvania) | New Kensington | AWE | Pennsylvania.
PA—Beryllium Corp. of America (Hazleton) | Hazleton | BE | Pennsylvania.
PA—Beryllium Corp. of America (Reading) | Reading | BE | Pennsylvania.
PA—Birdsboro Steel & Foundry | Birdsboro | AWE | Pennsylvania.
PA—C.H. Schnorr | Springdale | AWE DOE | Pennsylvania.
PA—Carnegie Institute of Technology | Pittsburgh | AWE | Pennsylvania.
PA—Carpenter Steel Co | Reading | AWE | Pennsylvania.
PA—Chambersburg Engineering Co | Chambersburg | AWE | Pennsylvania.
PA—Foote Mineral Co | East Whiteland Twp | AWE/BE | Pennsylvania.
PA—Frankford Arsenal | Philadelphia | AWE | Pennsylvania.
PA—Heppenstall Co | Pittsburgh | AWE | Pennsylvania.
PA—Jessop Steel Co | Washington | AWE | Pennsylvania.
PA—Koppers Co., Inc | Verona | AWE | Pennsylvania.
PA—Landis Machine Tool Co | Waynesboro | AWE | Pennsylvania.
PA—McDanel Refractory Co | Beaver Falls | BE | Pennsylvania.
PA—Nuclear Materials and Equipment Corp. (NUMEC) | Apollo | AWE BE | Pennsylvania.
PA—Nuclear Materials and Equipment Corp. (NUMEC) | Parks Township | AWE BE | Pennsylvania.
PA—Penn Salt Co | Philadelphia/Wyndmoor | AWE | Pennsylvania.
PA—Philadelphia Naval Yard | Philadelphia | AWE | Pennsylvania.
PA—Shippingport Atomic Power Plant ¹ | Shippingport | DOE | Pennsylvania.
PA—Superior Steel Co | Carnegie | AWE | Pennsylvania.
PA—U.S. Steel Co., National Tube Division | McKeesport | AWE | Pennsylvania.
PA—Vitro Manufacturing (Canonsburg) | Canonsburg | AWE BE | Pennsylvania.
PA—Westinghouse Atomic Power Dev. Plant | East Pittsburgh | AWE | Pennsylvania.
PA—Westinghouse Nuclear Fuels Division | Cheswick | AWE | Pennsylvania.
PR—BONUS Reactor Plant | Punta Higuera | DOE | Puerto Rico.
PR—Puerto Rico Nuclear Center | Mayaguez | DOE | Puerto Rico.
RI—C.I. Hayes, Inc | Cranston | AWE | Rhode Island.
SC—Savannah River Site | Aiken | DOE | South Carolina.
SD—Ore Buying Station at Edgemont | Edgemont | DOE | South Dakota.
TN—Clarksville Facility | Clarksville | DOE | Tennessee.
TN—Manufacturing Sciences Corp | Oak Ridge | BE | Tennessee.
TN—Oak Ridge Gaseous Diffusion Plant (K-25) | Oak Ridge | DOE | Tennessee.
TN—Oak Ridge Hospital | Oak Ridge | DOE | Tennessee.
TN—Oak Ridge Institute for Science Education | Oak Ridge | DOE | Tennessee.
TN—Oak Ridge National Laboratory (X-10) | Oak Ridge | DOE | Tennessee.
TN—S-50 Oak Ridge Thermal Diffusion Plant | Oak Ridge | DOE | Tennessee.
TN—Vitro Corporation of America (Tennessee) | Oak Ridge | AWE BE | Tennessee.
TN—W.R. Grace (Tennessee) | Erwin | AWE | Tennessee.
TN—Y-12 Plant | Oak Ridge | DOE | Tennessee.
TX—AMCOT | Ft. Worth | AWE | Texas.
TX—Mathieson Chemical Co | Pasadena | AWE | Texas.
TX—Medina Facility | San Antonio | DOE | Texas.
TX—Pantex Plant | Amarillo | DOE | Texas.
TX—Sutton, Steele and Steele Co | Dallas | AWE | Texas.
TX—Texas City Chemicals, Inc | Texas City | AWE | Texas.
UT—Ore Buying Station at Marysvale | Marysvale | DOE | Utah.
UT—Ore Buying Station at Moab | Moab | DOE | Utah.
UT—Ore Buying Station at Monticello | Monticello | DOE | Utah.
UT—Ore Buying Station at White Canyon | White Canyon | DOE | Utah.
UT—Uranium Mill in Monticello | Monticello | DOE | Utah.
VA—BWXT | Lynchburg | AWE BE | Virginia
VA—Thomas Jefferson National Accelerator Facility | Newport News | DOE | Virginia.
VA—University of Virginia | Charlottesville | AWE | Virginia.
WA—Hanford | Richland | DOE | Washington.
WA—Pacific Northwest National Laboratory | Richland | DOE | Washington.
WV—Huntington Pilot Plant | Huntington | DOE | West Virginia.
WI—Allis-Chalmers Co | West Allis, Milwaukee | AWE | Wisconsin.
WI—A.O. Smith | Milwaukee | BE | Wisconsin.
WI—Besley-Wells | South Beloit | AWE | Wisconsin.
WI—General Electric (X-Ray Division) | Milwaukee | AWE | Wisconsin.
WI—LaCrosse Boiling Water Reactor | LaCrosse | DOE | Wisconsin.
WI—Ladish Co | Cudahy | BE | Wisconsin.
WY—Ore Buying Station at Crooks Gap | Crooks Gap | DOE | Wyoming.
WY—Ore Buying Station at Riverton | Riverton | DOE | Wyoming.
MR—Pacific Proving Ground ² | Marshall Islands | DOE | Marshall Islands.
¹ Consistent with the Act, coverage is limited to activities not performed under the responsibility of the Naval Nuclear Propulsion program.
² Pacific Proving Ground includes Bikini Atoll, Enewetak Atoll, Johnston (U.S. nuclear weapons testing activities only), and Christmas Island (U.S. nuclear weapons testing activities only).

Issued in Washington, DC, August 17, 2004.
T.A. Rollow,
Director, Office of Worker Advocacy, Office of Environment, Safety and Health.

[FR Doc. 04-19228 Filed 8-20-04; 8:45 am]

BILLING CODE 6450-01-P